ENVIRONMENTAL PROTECTION AGENCY

[OEI-2004-0001; FRL-7670-7]

Agency Information Collection Activities: Proposed Collection; Comment National Survey of Successful Waste Disposal Programs in Rural Areas in the United States, EPA ICR Number 2142.01

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before August 6, 2004.

ADDRESSES: Submit your comments, referencing docket ID number OEI-2004-01, to EPA online using EDOCKET (our preferred method), by e-mail to oei.docket@epa.gov, or by mail to: EPA Docket Center, Environmental Protection Agency, Office of Environmental Information Docket, Mail Code 28221T, 1200 Pennsylvania Ave., NW., Washington, DC 20460.

FOR FURTHER INFORMATION CONTACT: Erin Newman, Region 5 Air and Radiation Division (AR-18J), Environmental Protection Agency, 77 West Jackson Boulevard, Chicago, Illinois 60604; telephone number: 312-886-4587; fax number: 312-886-0617; e-mail address: newman.erin@epa.gov.

SUPPLEMENTARY INFORMATION: EPA has established a public docket for this ICR under Docket ID number OEI-2004-001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are State, local, and tribal environmental officials, soil and water conservation districts, and fire departments.

Title: National Survey of Successful Waste Disposal Programs in Rural Areas in the United States.

Abstract: Under a USEPA grant, the Research Foundation for Health and Environmental Effects (RFHEE) will conduct a survey of household waste disposal options. In conjunction with the Rural Community Assistance Program and the National Volunteer Fire Council, RFHEE will develop a targeted survey to find successful methods of household trash disposal in rural areas besides burning, which releases toxics chemicals into the environment. The Partners will conduct telephone interviews with state officials who have trash burning bans (25 states) or who are concerned about the issue. In addition, a sample of local officials, Soil and Water Conservation Districts, and local volunteer firefighters will be surveyed as well. The purpose of the survey is to find alternative, economically-feasible options for disposal. The results of the survey will be available to the public. This survey will not be used for any federal regulatory purposes. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The survey will be shared with approximately 100 respondents and is expect to take 20 minutes to complete. Participation is strictly voluntary and will be a one time occurance. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 19, 2004.
Norman Niedergang,
Acting Regional Administrator, Region 5.

[FR Doc. 04-12777 Filed 6-4-04; 8:45 am]

BILLING CODE 6560-50-P